ENVIRONMENTAL PROTECTION AGENCY

[FRL-7438-1]

EPA National Advisory Council for Environmental Policy and Technology—Compliance Assistance Advisory Committee; Notification of Public Advisory Committee Teleconference Meeting

AGENCY: Environmental Protection Agency (EPA).

ACTION: Notification of Public Advisory Committee teleconference meeting.

SUMMARY: Pursuant to the Federal Advisory Committee Act, Public Law 92-463, notice is hereby given that the Compliance Assistance Advisory Committee (CAAC) under the National Advisory Council for Environmental Policy and Technology (NACEPT) will meet in a public teleconference on Friday, January 24, 2003, from 11 a.m. to 1 p.m. eastern time. The meeting will be hosted out of Conference Room #6148, U.S. EPA, Ariel Rios Federal Building, 1200 Pennsylvania Avenue, NW., Washington, DC 20004. The meeting is open to the public, however, due to limited space, seating will be on a registration-only basis. For further information regarding the teleconference meeting, or how to register and obtain the phone number, please contact the individuals listed below.

Background: NACEPT is a federal advisory committee under the Federal Advisory Committee Act, Pub. L. 92463. NACEPT provides advice and recommendations to the Administrator and other EPA officials on a broad range of domestic and international environmental policy issues. NACEPT consists of a representative cross-section of EPA's partners and principle constituents who provide advice and recommendations on policy issues and serves as a sounding board for new strategies that the Agency is developing. The CAAC, a subcommittee of NACEPT, provides a Federal advisory forum from which the Agency can receive valuable multi-stakeholder advice and recommendations on enhancing EPA's compliance assistance program.

Purpose of Meeting: EPA is developing its new FY 2003-2008 Strategic Plan to serve as the Agency's road map for the next 5 years. The Strategic Plan will lay out EPA's five long-term goals and guide the Agency in establishing the annual goals it will need to meet along the way. It will help EPA to measure how far it has come towards achieving its goals and to recognize where it needs to adjust its approaches or directions to achieve better results. Finally, it will provide a basis from which EPA's managers can focus on the highest priority environmental issues and ensure that the Agency uses taxpayer dollars effectively. EPA is building its Strategic Plan around five goals, centered on the themes of air, water, land, communities and ecosystems, and compliance and environmental stewardship. These themes reflect EPA's mission, “to protect human health and the environment.” In addition, the Plan will discuss strategies the Agency is applying across all five goals, in areas such as science, human capital, innovation, information, homeland security, and partnerships.

The Compliance Assistance Advisory Committee (CAAC) will review and comment on EPA's Strategic Plan Architecture and identify opportunities for EPA to enhance the compliance assistance program. The comments submitted by the CAAC will be presented to the NACEPT Council for their review and approval at a future date. EPA is currently soliciting public comments on the draft goals and objectives that will provide the structure for the new Strategic Plan.

Availability of Review Materials: EPA's draft FY 2003-2008 Strategic Plan Architecture is available electronically from EPA's Office of Chief Financial Officer, at http://www.epa.gov/ocfopage/plan/plan.htm.

FOR FURTHER INFORMATION CONTACT: Members of the public wishing to gain access to the conference room on the day of the meeting must contact Ms. Joanne Berman, Designated Federal Officer for the CAAC, U.S. Environmental Protection Agency (2224A), Office of Enforcement and Compliance Assurance, 1200 Pennsylvania Avenue, NW., Washington, DC 20460; telephone/voice mail at (202) 564-7064, fax at (202) 564-7083; or via email at berman.joanne@epa.gov. Written comments from the public are welcome any time before or at the time of the meeting.

The agenda will be available to the public upon request. Written comments from the public are welcome any time before, during or after the meeting.

General Information: Additional information concerning the National Advisory Council for Environmental Policy and Technology (NACEPT) can be found on our web site (http://www.epa.gov/ocem).

Meeting Access: Individuals requiring special accommodation at this meeting, including wheelchair access to the conference room, should contact Ms. Berman at least five business days prior to the meeting so that appropriate arrangements can be made.

Dated: January 8, 2003.
Frederick F. Stiehl,
Acting Director, Office of Compliance.

[FR Doc. 03-619 Filed 1-9-03; 8:45 am]

BILLING CODE 6560-50-P